DEPARTMENT OF TRANSPORTATION

Federal Motor Carrier Safety Administration

Requirements and Registration for the U.S. DOT Motorcoach Safety Data Utilization Student Challenge

AGENCY: Federal Motor Carrier Safety Administration (FMCSA), DOT.

ACTION: Notice.

SUMMARY: FMCSA announces the U.S. DOT Motorcoach Safety Data Utilization Student Challenge. The purpose of the Challenge is to facilitate the development of mobile Web sites and applications to make FMCSA's motorcoach safety data more accessible and user-friendly. The Challenge is open to students currently enrolled at a fully-accredited higher education institution, or who plan to enroll in the fall of 2012 or the winter of 2013. The eligibility requirements and rules can be found below.

DATES: Submission period: Start: April 30, 2012 12:00 p.m. EDT, end: August 1, 2012 11:59 p.m. EDT. Judging period: Start: August 2, 2012 12:00 a.m. EDT, end: September 15, 2012 11:59 p.m. EDT. Winner(s) announced: September 20, 2012.

FOR FURTHER INFORMATION CONTACT: Katherine Sinrud, Office of Research and Information Technology, telephone (202) 366-3843, or email katherine.sinrud@dot.gov.

Award Approving Official: Dr. Kelly Leone, Associate Administrator for Research and Information Technology, FMCSA.

SUPPLEMENTARY INFORMATION:

I. Background

The Agency believes that developers, small businesses, and the general public would make better use of FMCSA-collected data if it were available in a more versatile and user-friendly format. To that end, FMCSA announces the U.S. DOT Motorcoach Safety Data Utilization Student Challenge, pursuant to the America COMPETES Act (15 U.S.C. 3719), to engage student developers to create methods for the traveling public to more meaningfully make use of motorcoach safety data. Up to two winning student-developed applications or Web sites for mobile devices will be showcased at a U.S. DOT or industry event. FMCSA will release motorcoach safety data in the form of Application Programming Interfaces (APIs) to facilitate participation.

The goal of the Challenge is to make FMCSA's motorcoach safety data easier to understand and to promote wider use among consumers, stakeholders, and policy-makers across the country. Through increased accessibility and use, the Agency seeks to help the traveling public make more informed decisions when choosing motorcoach carriers.

II. Subject of Challenge Competition

The goal of the U.S. DOT Motorcoach Safety Data Utilization Student Challenge is to showcase the potential benefits of online or mobile applications that present motorcoach safety data to the public in an innovative way resulting in improved traveler safety.

III. Eligibility Rules for Participating in the Competition

To be eligible to enter and win this Challenge, an individual or group of individuals must meet all eligibility requirements listed in the Official Rules (provided below) and have registered to participate in the competition through Challenge.gov. In addition, all entries must meet Submission Requirements listed in the Official Rules.

IV. Registration Process for Participants

Contestants must register for the contest on the Challenge.gov Web site by creating an account. Registrants will receive an email to verify their account and may then enter their submissions via the “Enter a Submission” tab. More information governing submissions and their content can be found in the Official Rules, which are provided below.

V. Winner Recognition/Award

Up to two winning entries will be recognized. Depending on the number of entries, the U.S. DOT may also identify submissions as honorable mentions through the U.S. DOT FMCSA Web site. The winner(s) will be recognized at a U.S. DOT or industry event to be determined. Authorized travel expenses will be paid for up to two members of each team being recognized to attend the event.

VI. Basis Upon Which Winner Will Be Selected

Challenge submissions will be scored in each of four criteria, as listed below:

1. Creativity and aesthetics of data utilization.

2. Success in translating multiple data sets into relevant information.

3. Relevance to the goal area of crafting a marketplace that better accesses and utilizes motorcoach safety data.

4. Demonstrated value in assisting people or entities who use the data to make decisions.

The product submissions will be judged by a qualified panel of FMCSA employees selected by the U.S. DOT at its sole discretion.

VII. Official Rules

Introduction: The U.S. DOT Motorcoach Safety Data Utilization Student Challenge (the “Challenge”) is an initiative of the U.S. DOT Federal Motor Carrier Safety Administration (FMCSA). The Challenge is intended to showcase the potential benefits of online or mobile applications that present motorcoach safety data to the public in an innovative way resulting in improved traveler safety. Products may be submitted by individual students or teams of individual students (collectively, “Contestants”).

Any elements of the Challenge described in the “details” section of this Challenge posting on challenge.gov are wholly incorporated as part of the rules of this contest.

Eligibility: In order to be eligible to enter and win the Challenge, individuals or groups of individuals must meet all of the following requirements:

1. Must be at least 18 years old and a citizen or permanent resident of the United States; holders of student visas that do not otherwise have permanent residency are not eligible to compete.

2. Must be currently enrolled at a higher education institution defined as an accredited public or private university or college (including community, junior, or vocational college) or plan to enroll in either the Fall of 2012 or Winter of 2013.

3. Must not be a Federal employee (including U.S. DOT employees) acting within the scope of his/her employment or working on his/her applications or submissions during assigned duty hours.

4. Must not be a Federal contractor(s) or use Federal funds from a contract to develop COMPETES Act Challenge applications or to fund efforts in support of a COMPETES Act Challenge submission.

5. Must have complied with all the Submission Requirements listed below.

In addition, each individual member in a team must be independently eligible to win. All winners or all members of the winning team must be able to certify that they have not been convicted of a violation of Federal criminal law involving fraud, conflict of interest, bribery, or gratuity violations found in Title 18 of the United States Code or a violation of the civil False Claims Act. An individual may join more than one team. An individual or group of individuals shall not be deemed ineligible because the individual or entity used Federal facilities or consulted with Federal employees during a competition if the facilities and employees are made available to all individuals and entities participating in the competition on an equitable basis.

The Challenge is subject to all applicable federal laws and regulations. Participation constitutes Contestant's full and unconditional agreement to these Official Rules and administrative decisions, which are final and binding in all matters related to the Challenge. Eligibility to be recognized as a winner is contingent upon fulfilling all requirements set forth herein.

Challenge Submission Period: The Challenge Submission Period begins on April 30, 2012, at 12 p.m. Eastern Daylight Time (EDT) and ends on August 1, 2012, at 11:59 p.m. (EDT).

How to Enter and Submission Requirements: Interested persons should read the Official Rules before entering the Competition. All Contestants must submit their product through the Challenge.gov portal. Please note, in order to submit a product, Contestants will first need to register and create an account with Challenge.gov.

Submission Format: There are two basic steps for entry:

1. Create an interesting online or mobile application product (product) and accompanying summary: Select a topic that addresses the goal area of Motorcoach Safety Data Utilization and create an interesting product that demonstrates an innovative method of using FMCSA data to inform the general public about motorcoach safety. Access to FMCSA data is described below under Data Sources. Entries must include the use of all 5 Behavior Analysis and Safety Information Categories (BASICs) described below. Data from additional government and/or other appropriate sources may be used in creating the product. You must identify specific data sources used. Entries may not rank motorcoach companies using any number, letter, color or icon system. Develop a summary of the product that explains your topic, how the entry improves a decision based on the general public's understanding of your topic, and what conclusions can be drawn from the application. The summary must not exceed 650 words.

2. Submit your entry: Prior to submitting a product, register on Challenge.gov. Registration is free. From the Competition Web page on Challenge.gov, use the “Enter a Submission” tab to submit the description of the online or mobile application, and provide a link to a fully functioning application hosted outside of Challenge.gov. Submissions may be updated by the submitter until the Challenge Submission Period ends.

After submission, all products may be screened by FMCSA for malicious code or other security issues. Screened submissions will be posted on the Challenge.gov competition Web page on a rolling basis. Products failing to meet Submission Requirements or other Submission screenings will be deemed ineligible to win. Posting a product to the Competition Web site does not constitute FMCSA's determination of Contestant or the online or mobile app's eligibility.

An entry into the Challenge consists of your product and accompanying summary to the U.S. DOT (together, the “Entry Materials”). All Entry Materials must be in English. All requested information must be provided for your entry to be valid.

Submission Content: Using data sets including those provided by the U.S. DOT, create a product that provides information to motorcoach travelers and addresses one or more of FMCSA's core priorities.

1. Raise the bar for motorcoach carriers to enter the industry

2. Maintain high safety standards to remain in the motorcoach industry

3. Remove high-risk motorcoach operators from our roads and highways

Data Sources: FMCSA is providing access through Application Programming Interfaces (APIs) to data from its License and Insurance (L&I) system and the Motor Carrier Management Information System (MCMIS). The FMCSA API is available at https://mobile.fmcsa.dot.gov/developer.

The L&I system is a client-server and web-based application used to enter and display licensing and insurance information regarding authorized for-hire motor carriers, freight forwarders, and property brokers. It is the authoritative source for FMCSA licensing and insurance data. The MCMIS includes data from FMCSA's Safety Management System (SMS). The data provided in SMS uses all safety violations discovered at roadside, weights each one based on its crash risk, and measures safety performance in different unsafe behavioral areas called Behavior Analysis Safety Improvement Categories (BASICs). Access to the five publicly available BASICs is available through this challenge. They are:

1. Unsafe Driving

2. Fatigued Driving

3. Driver Fitness

4. Controlled Substances/Alcohol

5. Vehicle Maintenance

Alternative/Additional Data Sources: In addition to the provided data sources, you may also use other data sources such as:

1. The National Highway Traffic Safety Administration's (NHTSA) Fatality Analysis Reporting System (FARS) database: http://www.nhtsa.gov/FARS.

2. U.S. Census database: http://www.census.gov/.

3. State and local department of transportation data.

4. Mapping information.

5. Other publicly-available and verifiable data sources as appropriate.

Any data sources outside of the provided FMCSA APIs, including those listed above, must be disclosed in your 650 word description of your product.

Submission Requirements: In order for an entry to be eligible to be recognized as a winner of this Competition, the entry must meet the following requirements:

1. General—Contestants must host their own online or mobile application during the submission and judging process and ensure FMCSA has continued access to the online or mobile product throughout the judging process.

2. Availability—Contestants must make their submissions available free to the public during the Competition and for at least one year after. In addition, each Contestant grants to the U.S. DOT and others acting on behalf of the U.S. DOT (including FMCSA), a royalty-free, non-exclusive, unlimited worldwide license to use, copy for use, perform publicly, and display publicly all parts of the Submission for the purposes of the Challenge. This license includes posting or linking to the Submission on the official U.S. DOT Web site and making it available for use by the public for an unlimited timeframe.

3. Acceptable Platforms—The application must be designed for the Web, a personal computer, a mobile handheld device, console, or any platform broadly accessible on the open internet.

4. Data—The online or mobile application must utilize, at a minimum, the Federal government data provided in the API. Information available from any publicly available Federal source or other data source (e.g. industry or map data) may be used though not all data fields or information available in these additional resources must be included. Contestants agree not to use the data or information obtained through participation in the Challenge for purposes of invasion of privacy (under appropriation, intrusion, public disclosure of private facts, false light in the public eye or other legal theory), defamation, slander, libel, violation of right of publicity, infringement of trademark, copyright or other intellectual property rights, property damage, or causing personal injury or death.

5. Accessibility—The app must be accessible to a wide range of users, including users with disabilities (see Federal standards under Section 508 of the Rehabilitation Act, http://www.section508.gov/index.cfm?fuseAction=stdsdoc).

6. Deadlines and Modifications—All Competition submissions must be submitted through the Challenge.gov portal by August 1, 2012 at 11:59 p.m. EDT. After the Challenge submission period closes on August 1, 2012, a submitted app must remain unchanged and unaltered until after the judging period.

7. Intellectual Property—The Submission must not infringe any copyright or any other rights of any third party.

8. No U.S. DOT logo—The online or mobile application must not use U.S. DOT's logo or official seal in the Submission, and must not claim U.S. DOT endorsement. The recognition of a winning entry in this Competition does not constitute an endorsement of a specific product by U.S. DOT or the Federal government.

9. Functionality/Accuracy—A Submission may be disqualified if the application fails to function as described in the description provided by the Contestant, or if the application provides inaccurate information.

10. Security—Submissions must be free of malware. Contestant agrees that FMCSA may screen the application to determine whether malware or other security threats may be present. FMCSA may disqualify the online or mobile application if, in FMCSA's judgment, the entry may damage government or others' equipment or operating environment.

11. Standards of Conduct—All Competition submissions must also adhere to the Challenge.gov Standards of Conduct at http://challenge.gov/terms#standards.

Judging: Prior to judging, all submitted products will be screened for Contestant eligibility, completeness of submission and malicious code. The members of the Judging panel will be selected by FMCSA at its sole discretion and will be comprised of up to ten federal employees. Judges will be screened by FMCSA to ensure they do not: (1) Have personal or financial interests in any Contestant; or (2) have a familial relationship with a Contestant. The panel will judge the Entry Materials (product and summary text) on the judging criteria identified below in order to select the awardees. Judges have the right to withdraw without advance notice in the event of circumstances beyond their control.

Challenge submissions will be scored in each of four criteria, as listed below:

1. Creativity and aesthetics of application. Like artwork, products should be designed to capture the attention of the user through creative use of visuals, layout, and animations (if applicable). How original and attractive is the product?

2. Success in translating data sets into relevant information. One aspect of the application is its potential to synthesize multiple, large datasets to deliver relevant and actionable information to the user in an innovative compelling way. How well does the product accomplish this? Does the product accomplish the goal while including data from each of the 5 BASICs?

3. Relevance to the goal area of crafting a marketplace that can better access and utilize motorcoach safety data. Does the author's submission contribute to crafting a marketplace that can better access and utilize available bus safety data? Does the product accomplish the goal without creating a ranking system?

4. Demonstrated value in assisting decision makers. Does the information presented in the product and summary shed new light on a transportation issue that would otherwise not been known?

All Decisions by the U.S. DOT are Final and Binding in All Matters Related to the Challenge.

Verification of Potential Winners:

Potential winners must continue to comply with all terms and conditions of these Official Rules and winning is contingent upon fulfilling all requirements. The potential winners will be notified by email, telephone, or mail after the date of the judging. The potential winners will be required to sign and return to U.S. DOT, within ten (10) days of the date notice is sent, an Affidavit of Eligibility (certifying that they meet all of Challenge's eligibility requirements) and a Liability/Publicity Release in order to claim any recognition. In the event that a potential winner of a Challenge is disqualified for any reason, U.S. DOT may award the applicable recognition to an alternate winner from the remaining eligible entries.

Awards: Up to two entries will be recognized as winners. Depending on the number of entries, the U.S. DOT may also give honorable mention recognition to several submissions through the U.S. DOT FMCSA Web site.

Following the announcement of the award(s), up to two winning awardees will be recognized at a U.S. DOT or industry event to be determined. Authorized travel expenses will be paid for an individual contestant who wins or up to two members of each winning team to attend the event. If a winning team consists of more than two individuals, the team must designate the two individuals who will represent the team at the event. The individuals designated to attend the event must be included in the entry package. Travelers will need to provide receipts to document travel expenses and the travel expenses will be reimbursed according to Federal Government travel rules and regulations, including 41 CFR 300-3.1 (Invitational Travel). Maximum reimbursement rates for are published by the General Services Administration at http://www.gsa.gov/portal/category/100120; these limits apply to the invitational travel granted to the winners of this Challenge. Travel will only be purchased, reimbursed or otherwise covered through this Challenge from origins or to destinations within the United States and U.S. Territories. No cash equivalent or substitute compensation will be made in place of the authorized travel expenses.

Entry Conditions and Release: By entering, each Contestant agrees to: (a) Comply with and be bound by these Official Rules and the decisions of the U.S. DOT and/or the Challenge judges which are binding and final in all matters relating to this Challenge; (b) release and hold harmless the U.S. DOT and any other organizations responsible for sponsoring, fulfilling, administering, advertising or promoting the Challenge, and all of their respective past and present officers, directors, employees, agents and representatives (collectively, the “Released Parties”) from and against any and all claims, expenses, and liability, including but not limited to negligence and damages of any kind to persons and property, including but not limited to invasion of privacy (under appropriation, intrusion, public disclosure of private facts, false light in the public eye or other legal theory), defamation, slander, libel, violation of right of publicity, infringement of trademark, copyright or other intellectual property rights, property damage, or death or personal injury arising out of or relating to a Contestant's entry, creation of an entry or submission of an entry, participation in the Challenge, acceptance or use or misuse of any travel or activity related thereto and/or the broadcast, transmission, performance, exploitation or use of entry; and (c) indemnify, defend and hold harmless the U.S. DOT against any and all claims, expenses, and liabilities (including reasonable attorneys' fees) arising out of or relating to a Contestant's participation in the Challenge and/or Contestant's acceptance, use or misuse of recognition or travel expenses.

Publicity: Except where prohibited, participation in the Challenge constitutes Contestant's consent to U.S. DOT's and its agents' use of Contestant's name, likeness, photograph, voice, opinions, and/or hometown and state for promotional purposes in any media, worldwide, without further payment or consideration.

General Conditions: The U.S. DOT reserves the right to cancel, suspend and/or modify the Challenge, or any part of it, if any fraud, technical failures or any other factor beyond the U.S. DOT's reasonable control impairs the integrity or proper functioning of the Challenge, or any other reason as determined by the U.S. DOT in its sole discretion. The U.S. DOT reserves the right in its sole discretion to disqualify any individual or Contestant it finds to be tampering with the entry process or the operation of the Challenge or to be acting in violation of these Official Rules or any other promotion or in an unsportsmanlike or disruptive manner. Any attempt by any person to deliberately undermine the legitimate operation of the Challenge may be a violation of criminal and civil law, and, should such an attempt be made, the U.S. DOT reserves the right to seek damages from any such person to the fullest extent permitted by law. The U.S. DOT's failure to enforce any term of these Official Rules shall not constitute a waiver of that provision.

Limitations of Liability: The Contestant shall be liable for, and shall indemnify and hold harmless the Federal government against, all action or claims, including but not limited to those for loss of or damage to property (such as damage that may results from a virus, malware, etc. to DOT computer systems or those of the end-users of the software and/or applications), resulting from the fault, negligence, or wrongful act or omission of the Contestant.

However, based on the subject matter of the Competition, the type of work that it will possibly require, and the likelihood of any claims for death, bodily injury, or property damage, or loss potentially resulting from contest participation, Contestants are not required to obtain liability insurance or demonstrate fiscal responsibility in order to participate in this Competition.

The Released Parties are not responsible for: (1) Any incorrect or inaccurate information, whether caused by Contestants, printing errors or by any of the equipment or programming associated with or utilized in the Challenge; (2) technical failures of any kind, including, but not limited to malfunctions, interruptions, or disconnections in phone lines or network hardware or software; (3) unauthorized human intervention in any part of the entry process or the Challenge; (4) technical or human error which may occur in the administration of the Challenge or the processing of entries; or (5) any injury or damage to persons or property which may be caused, directly or indirectly, in whole or in part, from Contestant's participation in the Challenge or receipt of recognition or travel funds. If for any reason a Contestant's entry is confirmed to have been erroneously deleted, lost, or otherwise destroyed or corrupted, Contestant's sole remedy is another entry in the Challenge. No more than the stated number of winners will be recognized.

Original Work, Plagiarism, and Copyright: Contestant or teams warrants that he, she, or they are the sole author(s) and owner(s) of the Submission, and that the Submission is wholly original with the Contestant or team, and that it does not infringe any copyright or any other rights of any third party of which Contestant or team members is aware. The U.S. DOT reserves the right to not accept any entry which it believes infringes on the intellectual property rights of others.

Privacy: Any personal information provided to the U.S. DOT by submitting an entry to this Challenge is used only to communicate on matters regarding the submission and/or the Challenge. Information is not collected for commercial marketing.

Issued on: April 24, 2012.
Kelly Leone,
Associate Administrator, Research and Information Technology.

[FR Doc. 2012-10302 Filed 4-27-12; 8:45 am]

BILLING CODE 4910-EX-P